ENVIRONMENTAL PROTECTION AGENCY

40 CFR Part 271

[EPA-R03-RCRA-2017-0553; FRL-9982-19—Region 3]

District of Columbia: Final Authorization of District Hazardous Waste Management Program Revisions

AGENCY: Environmental Protection Agency (EPA).

ACTION: Final authorization.

SUMMARY: The EPA is granting the District of Columbia (the District) final authorization for revisions to its hazardous waste management program under the Resource Conservation and Recovery Act (RCRA). The Agency published a proposed rule on June 11, 2018 and provided for public comment. No comments relevant to the proposed revisions were received. No further opportunity for comment will be provided.

DATES: This final authorization is effective on August 20, 2018.

ADDRESSES: EPA has established a docket for this action under Docket ID No. EPA-R03-RCRA-2017-0553. All documents in the docket are listed in the www.regulations.gov index. Although listed in the index, some of the information is not publicly available, e.g., Confidential Business Information or other information whose disclosure is restricted by statute. Certain other material, such as copyrighted material, will be publicly available only in hard copy. Publicly available docket materials are available either electronically through www.regulations.gov or in hard copy. You may view and copy the District's application from 9:00 a.m. to 5:00 p.m., Monday through Friday at the following locations: District of Columbia Department of Energy and Environment, Environmental Services Administration, Hazardous Waste Branch, 1200 First Street NE, 5th Floor, Washington, DC, Phone number: (202) 654-6031, Attn: Barbara Williams; and EPA Region III, Library, 2nd Floor, 1650 Arch Street, Philadelphia, PA 19103-2029, Phone number: (215) 814-5254.

FOR FURTHER INFORMATION CONTACT: Sara Kinslow, U.S. EPA Region III, RCRA Waste Branch, Mailcode 3LC32, 1650 Arch Street, Philadelphia, PA 19103-2029, phone number: (215) 814-5577, email: kinslow.sara@epa.gov.

SUPPLEMENTARY INFORMATION:

A. What revisions is EPA authorizing with this action?

On August 15, 2012, the District submitted a final complete program revision application (with subsequent corrections) seeking authorization of revisions to its hazardous waste management program in accordance with 40 CFR 271.21. EPA now makes a final decision that the District's hazardous waste management program revisions are equivalent to, consistent with, and no less stringent than the Federal program, and therefore satisfy all of the requirements necessary to qualify for final authorization. For a list of District rules that are being authorized with this final authorization please see the proposed rule published in the June 11, 2018 Federal Register at 83 FR 26917.

B. What is codification and is EPA codifying the District of Columbia's hazardous waste program as authorized in this authorization?

Codification is the process of placing a state's statutes and regulations that comprise that state's authorized hazardous waste program into the Code of Federal Regulations. EPA does this by referencing the authorized state rules in 40 CFR part 272. EPA is not codifying the authorization of the District's revisions at this time. However, EPA reserves the amendment of 40 CFR part 272, subpart J, for codification of this authorization of the District's hazardous waste management program until a later date.

C. Statutory and Executive Order Reviews

This final authorization revises the District's authorized hazardous waste management program pursuant to section 3006 of RCRA and imposes no requirements other than those currently imposed by District law. For further information on how this authorization complies with applicable executive orders and statutory provisions, please see the proposed rule published in the June 11, 2018 Federal Register at 83 FR 26917.

List of Subjects in 40 CFR Part 271

Environmental protection, Administrative practice and procedure, Confidential business information, Hazardous materials transportation, Hazardous waste, Indians—lands, Intergovernmental relations, Penalties, Reporting and recordkeeping requirements.

Authority: This action is issued under the authority of sections 2002(a), 3006 and 7004(b) of the Solid Waste Disposal Act, as amended, 42 U.S.C. 6912(a), 6926, and 6974(b).

Dated: July 31, 2018.
Cosmo Servidio,
Regional Administrator, U.S. EPA Region III.

[FR Doc. 2018-17921 Filed 8-17-18; 8:45 am]

BILLING CODE 6560-50-P